DEPARTMENT OF HOMELAND SECURITY

Federal Emergency Management Agency

44 CFR Part 67

[Docket No. FEMA-B-1004]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 16, 2008.

ADDRESSES: The corresponding preliminary Flood Insurance Rate Map (FIRM) for the proposed BFEs for each community are available for inspection at the community's map repository. The respective addresses are listed in the table below.

You may submit comments, identified by Docket No. FEMA-B-1004, to William R. Blanton, Jr., Chief, Engineering Management Branch, Mitigation Directorate, Federal Emergency Management Agency, 500 C Street SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet(NGVD) + Elevation in feet(NAVD) # Depth in feet above ground: Effective | * Elevation in feet(NGVD) + Elevation in feet(NAVD) # Depth in feet above ground: Modified | Communities affected
Orange County, California, and Incorporated Areas
Aliso Creek | At confluence with Pacific Ocean | +2 | +14 | City of Laguna Beach, Unincorporated Areas of Orange County.
| Approximately 1.09 miles upstream of confluence with Pacific Ocean | +40 | +41
Bluebird Canyon | At confluence with Pacific Ocean | None | +17 | City of Laguna Beach.
| Approximately 0.55 mile upstream of confluence with Pacific Ocean | +125 | +124
Canyon Acres Wash | Approximately 70 feet upstream of confluence with Laguna Canyon | None | +81 | City of Laguna Beach.
| Approximately 1,460 feet upstream of Lewellyn Drive | None | +185
Laguna Canyon | At confluence with Pacific Ocean | None | +15 | City of Laguna Beach, Unincorporated Areas of Orange County.
| Approximately 0.72 mile upstream of upstream most State Highway 73 crossing | +343 | +344
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Laguna Beach
Maps are available for inspection at Laguna Beach City Hall, 505 Forest Avenue, Laguna Beach, CA.
Unincorporated Areas of Orange County
Maps are available for inspection at Orange County Public Works Department, 300 North Flower Street, Santa Ana, CA.
Calcasieu Parish, Louisiana, and Incorporated Areas
| Base Flood Elevation changes ranging from 6 to 17 feet in the form of Coastal | +5-14 | +6-17 | Unincorporated areas of Calcasieu Parish, City of Sulphur, City of Lake Charles, City of Westlake.
Gulf of Mexico | AE/VE zones have been made |  |  |
| Intersection with U.S. Highway 90 | +7 | +5
Bayou Choupique | Intersection with Southern Pacific Railroad line | +9 | +6 | Unincorporated areas of Calcasieu Parish.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Westlake
Maps are available for inspection at 1001 Mullberry Street, Westlake, LA 70669.
Unincorporated Areas of Calasieu Parish
Maps are available for inspection at 1015 Pithon Street, Lake Charles, LA 70602.
City of Sulphur
Maps are available for inspection at 500 North Huntington Street, Sulphur, LA 70664.
City of Lake Charles
Maps are available for inspection at 326 Pujo Street, Lake Charles, LA 70602.
Alleghany County, North Carolina, and Incorporated Areas
Bledsoe Creek | At the confluence with Little River | None | +2752 | Alleghany County, Town of Sparta.
| Approximately 920 feet upstream of Green Needles Lane | None | +2919
Bledsoe Creek Tributary 1 | At the confluence with Bledsoe Creek | None | +2759 | Town of Sparta.
| Approximately 110 feet upstream of Cherry Street | None | +2896
Brush Creek | At the confluence with Little River | None | +2443 | Alleghany County.
| Approximately 1.6 miles upstream of Fox Ridge Road | None | +2522
Crab Creek | At the confluence with Little River | None | +2337 | Alleghany County.
| Approximately 0.6 mile upstream of the confluence with Little River | None | +2366
Cranberry Creek | At the Alleghany/Ashe County boundary | None | +2739 | Alleghany County.
| Approximately 850 feet upstream of the Alleghany/Ashe County boundary | None | +2743
Glade Creek | At the confluence with Little River | None | +2499 | Alleghany County.
| Approximately 1.4 miles upstream of the confluence of Glade Creek Tributary 2 | None | +2529
Glade Creek Tributary 1 | At the confluence with Glade Creek | None | +2501 | Alleghany County.
| Approximately 0.4 mile upstream of Fox Den Lane | None | +2565
Glade Creek Tributary 2 | At the confluence with Glade Creek | None | +2509 | Alleghany County.
| Approximately 0.8 mile upstream of the confluence with Glade Creek | None | +2579
Little River | Approximately 1,100 feet downstream of the confluence of Crab Creek | None | +2333 | Alleghany County, Town of Sparta.
| Approximately 1.0 mile upstream of the confluence of Little River Tributary 2 | None | +2851
Little River Tributary 1 | At the confluence with Little River | None | +2587 | Alleghany County.
| Approximately 1,950 feet upstream of the confluence with Little River | None | +2660
Little River Tributary 2 | At the confluence with Little River | None | +2829 | Alleghany County, Town of Sparta.
| Approximately 0.7 mile upstream of the confluence with Little River | None | +2905
Moccasin Creek | At the confluence with Little River | None | +2431 | Alleghany County.
| Approximately 0.6 mile upstream of the confluence with Little River | None | +2480
New River | Approximately 0.4 mile downstream of the confluence with New River Tributary 1 | None | +2318 | Alleghany County.
| At the confluence of South Fork New River and North Fork New River | None | +2487
New River Tributary 1 | Approximately 200 feet upstream of the confluence with New River | None | +2319 | Alleghany County.
| Approximately 0.7 mile upstream of the confluence with New River | None | +2364
New River Tributary 2 | At the confluence with New River | None | +2339 | Alleghany County.
| Approximately 1,720 feet upstream of Riverwood Lane | None | +2390
Pine Swamp Creek | At the confluence with Little River | None | +2803 | Alleghany County.
| Approximately 0.7 mile upstream of Grandview Drive (State Road 1172) | None | +2818
South Fork New River | At the confluence with New River | None | +2487 | Alleghany County.
| Approximately 1.4 miles upstream of the confluence of South Fork New River Tributary 2 | None | +2526
South Fork New River Tributary 1 | At the confluence with South Fork New River | None | +2509 | Alleghany County.
| Approximately 0.5 mile upstream of the confluence with South Fork New River | None | +2535
South Fork New River Tributary 2 | At the confluence with South Fork New River | None | +2516 | Alleghany County.
| Approximately 0.7 mile upstream of the confluence with South Fork New River | None | +2572
Vile Creek | At the confluence with Little River | None | +2674 | Alleghany County, Town of Sparta.
| Approximately 1,660 feet upstream of NC Highway 18 | None | +2759
Vile Creek Tributary 1 | At the confluence with Vile Creek | None | +2695 | Alleghany County, Town of Sparta.
| Approximately 0.4 mile upstream of the confluence with Vile Creek | None | +2751
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Alleghany County
Maps are available for inspection at Alleghany County Planning Department, County Administration Building, 348 South Main Street, Sparta, NC.
Town of Sparta
Maps are available for inspection at Sparta Town Hall, 304 South Main Street, Sparta, NC.
Watauga County, North Carolina, and Incorporated Areas
Boone Creek | At the confluence with Winkler Creek | +3120 | +3122 | Town of Boone.
| Approximately 350 feet upstream of West King Street | None | +3311
Cobb Creek | At the confluence with Meat Camp Creek | None | +3169 | Unincorporated Areas of Watauga County.
| Approximately 1,540 feet upstream of Cobbs Creek Road (State Road 1325) | None | +3307
Elk Creek | Approximately 100 feet downstream of the Watauga/Wilkes County boundary | None | +1349 | Unincorporated Areas of Watauga County.
| Approximately 1.1 miles upstream of Jakes Mountain Road | None | +2135
Elk Creek (into South Fork River) | Approximately 50 feet upstream of Big Hill Road (State Road 1350) | None | +2955 | Unincorporated Areas of Watauga County.
| Approximately 250 feet upstream of State Road 194 | None | +2982
Flannery Fork | At the confluence with Winkler Creek | None | +3253 | Unincorporated Areas of Watauga County, Town of Boone.
| Approximately 430 feet upstream of Sky Ranch Road | None | +3469
Gap Creek | At the Watauga/Ashe County boundary | None | +2952 | Unincorporated Areas of Watauga County.
| Approximately 160 feet upstream of James Parsons Road | None | +3076
Hodges Creek | Approximately 430 feet upstream of the confluence with Boone Creek | +3126 | +3127 | Town of Boone.
| Approximately 140 feet upstream of NC 105 Highway | None | +3286
Howard Creek | Approximately 1,440 feet upstream of Moss Hill Road | None | +3212 | Unincorporated Areas of Watauga County.
| Approximately 0.6 mile upstream of Millers Pond Lane | None | +3418
Left Prong Stony Fork | At the Watauga/Wilkes County boundary | None | +1639 | Unincorporated Areas of Watauga County.
| Approximately 220 feet upstream of the confluence of Wildcat Creek | None | +1947
Meat Camp Creek | At the confluence with South Fork New River | +3057 | +3058 | Unincorporated Areas of Watauga County.
| Approximately 1.1 miles upstream of Bryan Hollow Road (State Road 1339) | None | +3495
Meat Camp Creek Tributary | At the confluence with Meat Camp Creek | None | +3156 | Unincorporated Areas of Watauga County.
| Approximately 1,160 feet upstream of NC 194 Highway North | None | +3213
Middle Fork | Approximately 500 feet downstream of Shoppes On The Parkway Road | +3458 | +3455 | Unincorporated Areas of Watauga County, Town of Blowing Rock.
| Approximately 0.4 mile upstream of Goforth Road | None | +3630
Norris Fork | At the confluence with Meat Camp Creek | None | +3200 | Unincorporated Areas of Watauga County.
| Approximately 0.4 mile upstream of the confluence with Meat Camp Creek | None | +3248
Pine Orchard Creek | At the confluence with Elk Creek (into South Fork New River) | None | +2974 | Unincorporated Areas of Watauga County.
| Approximately 0.7 mile upstream of the confluence with Elk Creek (into South Fork New River) | None | +3041
Stony Fork | At the Watauga/Wilkes County boundary | None | +1975 | Unincorporated Areas of Watauga County.
| Approximately 40 feet downstream of Stoney Fork Road | None | +2265
Stony Fork Tributary | At the confluence with Stony Fork | None | +2260 | Unincorporated Areas of Watauga County.
| Approximately 1,470 feet upstream of Stoney Fork Road | None | +2341
Unnamed Tributary to Middle Fork | At the confluence with Middle Fork | +3479 | +3477 | Unincorporated Areas of Watauga County, Town of Blowing Rock.
| Approximately 0.7 mile upstream of Chetola Lake Drive | None | +3546
Wildcat Creek | At the confluence with Left Prong Stony Fork | None | +1941 | Unincorporated Areas of Watauga County.
| Approximately 0.6 mile upstream of Bill Miller Lane | None | +2469
Winkler Creek | Approximately 150 feet downstream of Pride Drive | +3114 | +3113 | Unincorporated Areas of Watauga County, Town of Boone.
| Approximately 300 feet upstream of Rainbow Mountain Road | None | +3442
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Blowing Rock
Maps are available for inspection at Blowing Rock Town Hall, 1036 Main Street, Blowing Rock, NC.
Town of Boone
Maps are available for inspection at Town of Boone Planning and Inspections Office, 1500 Blowing Rock Road, Boone, NC.
Unincorporated Areas of Watauga County
Maps are available for inspection at Watauga County Planning and Inspections Department, 331 Queen Street, Suite 8, Boone, NC.
Grant County, South Dakota, and Incorporated Areas
South Fork Whetstone River | Approximately 48 feet upstream of 479th Avenue | None | +1116 | City of Milbank, Unincorporated Areas of Grant County.
| Approximately 790 feet upstream of North Dakota Street | None | +1132
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Milbank
Maps are available for inspection at Milbank City Offices, 1001 East 4th Avenue, Milbank, SD.
Unincorporated Areas of Grant County
Maps are available for inspection at Grant County Courthouse, 210 East 5th Avenue, Milbank, SD.

(Catalog of Federal Domestic Assistance No. 97.022, “Flood Insurance.”)

Dated: September 4, 2008.
Michael K. Buckley,
Deputy Assistant Administrator for Mitigation, Department of Homeland Security, Federal Emergency Management Agency.

[FR Doc. E8-21687 Filed 9-16-08; 8:45 am]

BILLING CODE 9110-12-P